DEPARTMENT OF AGRICULTURE

Agricultural Marketing Service

[Document Number AMS-FV-10-0063]

Hass Avocado Promotion, Research, and Information Order; Importer Associations and Assessment Computation

AGENCY: Agricultural Marketing Service, USDA.

ACTION: Notice.

This notice announces an updated computation for assessments received by importer associations under the Hass Avocado Promotion, Research, and Information Order (Order)(7 CFR part 1219). The Order is authorized under the Hass Avocado Promotion, Research, and Information Act of 2000 (7 U.S.C. 7801-7813). The Order covers fresh domestic and imported Hass avocados and is administered by the Hass Avocado Board (Board). Under the program, assessments are paid by producers and importers and used for programs designed to increase the consumption of Hass avocados in the United States. A state association receives 85 percent of the assessment paid by all producers in the State of California and uses these funds to conduct state-of-origin promotions. Importer associations receive 85 percent of the assessments paid by their members and use these funds to conduct country-of-origin promotions. This notice announces that assessments from all Hass avocado importers who import Hass avocados from a country represented by an importer association will be included in the 85 percent assessment computation. For those importers of Hass avocados whose assessments were not previously included in the 85 percent calculation, such importers may have their assessments not included in the computation upon notice to the Board. Information regarding the updated computation is available from the Agricultural Marketing Service at http://www.ams.usda.gov/FVPromotion. The updated computation will become effective 60 days after the date of publication in the Federal Register.

FOR FURTHER INFORMATION CONTACT: Veronica Douglass, Marketing Specialist, Research and Promotion Branch, Fruit and Vegetable Programs, AMS, USDA, 1400 Independence Avenue, SW., Room 0632-S, Stop 0244, Washington, DC 20250-0244; telephone: (888) 720-9917; facsimile (202) 205-2800; or electronic mail: Veronica.Douglass@ams.usda.gov.

Dated: April 20, 2011.
Ellen King,
Acting Administrator, Agricultural Marketing Service.

[FR Doc. 2011-10120 Filed 4-26-11; 8:45 am]

BILLING CODE 3410-02-P